DEPARTMENT OF COMMERCE

National Oceanic and Atmospheric Administration

RIN 0648-XC691

Western Pacific Fishery Management Council; Public Meetings; Correction

AGENCY: National Marine Fisheries Service (NMFS), National Oceanic and Atmospheric Administration (NOAA), Commerce.

ACTION: Notice of correction of a public meeting.

SUMMARY: The Western Pacific Regional Fishery Management Council's (Council) will convene meetings of its Hawaii, American Samoa, Guam and Commonwealth of the Mariana Islands (CNMI) Archipelagic Advisory Panels (APs) and the Hawaii Regional Ecosystem Advisory Committee (REAC). See SUPPLEMENTARY INFORMATION for specific times, dates, and agenda items.

DATES: The Guam AP will be held on June 3, 2013, from 6 p.m.-10 p.m. The American Samoa AP will be held on June 5, 2013 from 2 p.m. to 6 p.m. The CNMI AP will be held on June 5, 2013 from 1 p.m.-5 p.m. The Hawaii AP will be held on June 13, 2013 from 9 a.m.-2 p.m. The Hawaii REAC will be held on June 17, 2013, from 9 a.m. to 4 p.m.

ADDRESSES: The Guam AP meeting will be held at the Guam Fishermen's Cooperative, Greg D. Perez Marina, Hagatna Boat Basin, Guam, telephone: (671) 472-6323. The American Samoa AP will be held at Toa's Bar and Grill Conference Room, Lions Park Road Nu'uuli Village, American Samoa, telephone: (684) 699-2901. The CNMI AP will be held at the Conference Room, Department of Lands and Natural Resources Lower Base Drive, Saipan, CNMI, telephone: (670) 664-6000. The Hawaii AP and the Hawaii REAC meetings will be held at the Western Pacific Regional Fishery Management Council office, 1164 Bishop Street, Suite 1400, Honolulu, HI, telephone: (808) 522-8220.

FOR FURTHER INFORMATION CONTACT: Kitty M. Simonds, Executive Director; telephone: (808) 522-8220.

SUPPLEMENTARY INFORMATION: The original notice published in the Federal Register on May 20, 2013 (78 FR 29322). This notice announces a change in the date for the REAC meeting and several agenda items. The notice is being republished in its entirety.

Agenda for Guam AP, June 3, 2013, 6 p.m.-10 p.m.

1. Welcome and Introductions

2. Update on previous AP recommendations

3. Update on Roles and Responsibilities of AP

A. Update on Web sites, Groupspace, Fishbox

B. Council Coordination in Guam

4. Council Issues and Action Items

A. Recommendations on 2014 Annual Catch Limits

B. Updates on Endangered Species Act (ESA) Listings

C. Fishery Community Engagement

i. Update on Council Education and Outreach

ii. Update on Community Fishery Development Projects

iii. Update on Guam Data Collection Projects

5. Guam AP issues

A. Marianas Science Workshop

B. Marine Education and Training Program

C. Local Fishery Issues

D. Other AP Issues

6. Other Business

7. Public Comment

8. Discussion and AP Recommendations to Council

Agenda for American Samoa AP, June 5, 2013, 2 p.m.-6 p.m.

1. Welcome and Introductions

2. Update on Previous AP Recommendations

3. Update on Roles and Responsibilities of AP

4. Update on AS Fishermen Database

5. Council Issues and Action Items

A. Revision of American Samoa Longline Swordfish Catch Limit

B. Recommendations on 2014 Annual Catch Limits

C. Review of minimum 100 m Hook Depth for American Samoa Longline Fishery

D. Update on Community Fishery Development

6. American Samoa AP Issues

A. Dock issues in Pago Pago Harbor

B. Incentive Program for Local Fishermen to Promote Fishing and Provision of Catch Data

C. Equipment store at the Fagatogo Marketplace

D. Fishing Issues at Aunu'u with New Sanctuary Regulations

E. Potential training opportunities for AP Members

F. Potential Funding Sources to Assist Local Small Fishing Boat Owners

G. Outreach to Manu'a Fishermen

H. Other AP Issues

7. Other Business

8. Public Comment

9. Discussion and AP Recommendations to Council

Agenda for CNMI AP, June 7, 2013,1 p.m.-5 p.m.

1. Welcome and Introductions

2. Update on Previous AP Recommendations

3. Update on Roles and Responsibilities of the AP

4. Council Issues and Action Items

A. Recommendations on 2014 Annual Catch Limits

B. Update on ESA Listings

5. CNMI AP Issues

A. Department of Defense Training Proposals

B. Proposed Fisheries Legislations

C. Update on CNMI Fisheries Review Committee

D. Update on CNMI Bio-sampling Program

E. Marine Conservation Plan Updates

F. Update on Fisheries Development Projects

G. Other AP Issues

6. Other Business

7. Public Comment

8. Discussion and AP Recommendations to Council

Hawaii AP Agenda, June 13, 2013, 9 a.m.-2 p.m.

1. Welcome and Introductions

2. Update on previous AP recommendations

3. Update on Roles and Responsibilities of AP

3. Council Issues and Action Items

A. Pelagic and International fisheries

B. Insular Fisheries

i. Update on Hawaii Bottomfish Fishery

ii. Recommendations for 2014 Annual Catch Limits

C. Update on Protected Species Issues

D. Fishery Community Engagement

i. Hawaii High School Summer Course

ii. Engagement with communities

a. Community Fish Aggregation Devices

b. Aha Moku

c. Community Monitoring Projects

5. Hawaii AP issues

6. Other Business

7. Public Comment

8. Discussion and AP Recommendations to Council

Hawaii REAC Agenda, June 17, 2013, 9 a.m.-4 p.m.

1. Welcome and Introduction of Members

2. Approval of Draft Agenda

3. Update on REAC 2012 Recommendations and Activities

4. Panel Presentations—Potential Impacts on Hawaii Communities from Climate Change

A. Sea-level Rise

B. Ocean Acidification

C. Marine Ecosystems

D. Cumulative Impacts

5. Fishermen's Perspectives on Impacts to Hawaii Fisheries

i. Offshore Fisheries

ii. Coastal Fisheries

6. Guest Presentation—US National Park Service Perspective on Climate Change and Cultural Resource Adaptation

7. Law and Policy for Climate Change Impacts

8. Other Business

A. First Stewards Symposium

B. Council Coastal and Marine Spatial Planning/Climate Change Committee

C. Next REAC Meeting Agenda and Topic

9. Public Comment

10. REAC Discussion and Recommendations on Potential Impacts and Management Planning for Climate Change

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 28, 2013.
Tracey L. Thompson,
Acting Deputy Director, Office of Sustainable Fisheries, National Marine Fisheries Service.

[FR Doc. 2013-12909 Filed 5-30-13; 8:45 am]

BILLING CODE 3510-22-P